DEPARTMENT OF TRANSPORTATION

Federal Railroad Administration

[Docket Number FRA-2021-0083]

Petition for Waiver of Compliance

Under part 211 of title 49 Code of Federal Regulations (CFR), this document provides the public notice that on August 10, 2021, Terminal Railroad Association of St. Louis (Terminal Railroad) petitioned the Federal Railroad Administration (FRA) for a waiver of compliance from certain provisions of the Federal railroad safety regulations contained at 49 CFR parts 240 (Qualification and Certification of Locomotive Engineers); and 242 (Qualification and Certification of Conductors). FRA assigned the petition Docket Number FRA-2021-0083.

Terminal Railroad requests an extension of the relief that was granted to the American Short Line and Regional Railroad Association (ASLRRA), on behalf of its member railroads, by letter dated September 18, 2020, from certain regulations pertaining to vision and hearing acuity.¹ Specifically, Terminal Railroad notes it seeks relief from engineer and conductor certification requirements in 49 CFR 240.121, Criteria for vision and hearing acuity data, and 242.117, Vision and hearing acuity.

¹ See https://www.regulations.gov/document/FRA-2020-0063-0003.

Terminal Railroad states that it has performed multiple searches to locate a clinic to perform vision and hearing acuity testing as required by §§ 240.121 and 242.117, but it currently has only one clinic available. Terminal Railroad states that the increase in coronavirus disease 2019 (COVID-19) cases and the possibility of increased state restrictions may limit clinic use further.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by September 9, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2021-18244 Filed 8-24-21; 8:45 am]

BILLING CODE 4910-06-P